ENVIRONMENTAL PROTECTION AGENCY

40 CFR Part 52 and 81

[R04-OAR-2005-KY-0001-200521(w); FRL-7985-9]

Approval and Promulgation of Implementation Plans and Designation of Areas for Air Quality Planning Purposes; Kentucky; Redesignation of the Christian County, Kentucky Portion of the Clarksville-Hopkinsville 8-Hour Ozone Nonattainment Area to Attainment for Ozone; Withdrawal of Direct Final Rule

AGENCY: Environmental Protection Agency (EPA).

ACTION: Withdrawal of direct final rule.

SUMMARY: Due to adverse comment, EPA is withdrawing the direct final rule published September 22, 2005, (70 FR 55550) approving the redesignation of the Clarksville-Hopkinsville 8-Hour Ozone Nonattainment Area to Attainment for Ozone. EPA stated in the direct final rule that if EPA received adverse comment by October 24, 2005, the rule would be withdrawn and not take effect. EPA subsequently received adverse comment. EPA will address the comment in a subsequent final action based upon the proposed action also published on September 22, 2005 (70 FR 55613). EPA will not institute a second comment period on this action.

DATES: The direct final rule is withdrawn as of October 21, 2005.

FOR FURTHER INFORMATION CONTACT: Stacy DiFrank, Air Planning Branch, U.S. Environmental Protection Agency Region 4, 61 Forsyth Street, SW., Atlanta, Georgia 30303-8960. Ms. DiFrank can be reached via phone at (404) 562-9042 or via electronic mail at difrank.stacy@epa.gov.

List of Subjects in 40 CFR Part 52

Environmental protection, Air pollution control, Intergovernmental relations, Ozone, Reporting and recordkeeping requirements, Volatile organic compounds.

Dated: October 4, 2005.
A. Stanley Meiburg,
Acting Regional Administrator, Region 4.

Accordingly, the amendments to 40 CFR 52.919 and 52.920 (which published in the Federal Register on September 22, 2005, at 70 FR 55550) is withdrawn as of October 21, 2005.

[FR Doc. 05-20982 Filed 10-20-05; 8:45 am]

BILLING CODE 6560-50-P